DEPARTMENT OF LABOR

Employment and Training Administration

[TA-W-55,314]

ABB, Inc., Columbus, OH; Notice of Termination of Investigation

Pursuant to section 221 of the Trade Act of 1974, as amended, an investigation was initiated on July 26, 2004 in response to a petition filed on behalf of workers of ABB, Inc., Columbus, Ohio.

The petitioning group of workers is covered by an active certification issued on August 26, 2002 which remains in effect until August 26, 2004 (TA-W-41,731). Consequently, further investigation in this case would serve no purpose, and the investigation has been terminated.

Signed at Washington, DC this 9th day of August, 2004.
Richard Church,
Certifying Officer, Division of Trade Adjustment Assistance.

[FR Doc. 04-19091 Filed 8-19-04; 8:45 am]

BILLING CODE 4510-30-P